ARCTIC RESEARCH COMMISSION

Meetings

Notice is hereby given that the U.S. Arctic Research Commission will hold its 86th meeting in Arlington, VA and Washington, DC on May 12-15, 2008. The Business Session, open to the public, will convene at 2 p.m. Monday, May 12, 2008 in Arlington, VA. An Executive Session will follow adjournment of the Business Session.

The Agenda items include:

(1) Call to order and approval of the Agenda.

(2) Approval of the Minutes of the 85th Meeting.

(3) Reports from Congressional Liaisons.

(4) Agency Reports.

The focus of the meeting will be reports and updates on programs and research projects affecting the Arctic.

Any person planning to attend this meeting who requires special accessibility features and/or auxiliary aids, such as sign language interpreters, must inform the Commission in advance of those needs.

Contact Person for More Information: John Farrell, Executive Director, U.S. Arctic Research Commission, 703-525-0111 or TDD 703-306-0090.

John Farrell,
Executive Director.

[FR Doc. E8-8964 Filed 4-24-08; 8:45 am]

BILLING CODE 7555-01-M